ENVIRONMENTAL PROTECTION AGENCY

[FRL-8078-8]

Temporary Changes to the EPA Docket Center

AGENCY: Environmental Protection Agency (EPA).

ACTION: Notice.

SUMMARY: The EPA Docket Center (EPA/DC) in Washington, DC is temporarily closed due to flooding. This notice provides information regarding submitting comments and accessing affected dockets during this closure.

FOR FURTHER INFORMATION CONTACT: Patrick Grimm, Mailcode 2822T, Office of Information Collection, Environmental Protection Agency, 1200 Pennsylvania Ave., NW., Washington, DC 20460; telephone number: (202) 566-1677; fax number: (202) 566-1639; e-mail address: Grimm.Patrick@epa.gov.

SUPPLEMENTARY INFORMATION: Dockets, Electronic Dockets, and Information Centers serve as the repository for information related to particular Agency actions. The Federal Docket Management System (FDMS) serves as EPA's electronic public docket and on-line comment system. If you would like to submit an electronic comment or obtain docket materials for an EPA docket, please visit FDMS at www.regulations.gov.

In 2002, EPA consolidated eight paper docket facilities into one location in the Agency's Washington, DC office. The EPA Docket Center (EPA/DC) includes a Public Reading Room that offers a variety of access tools for members of the public seeking access to hardcopy or electronic public dockets.

At this time, the EPA/DC's Public Reading Room is closed until further notice due to flooding. Fax numbers for Docket offices in the EPA/DC are temporarily unavailable. If you wish to hand deliver comments during this closure, you may drop them off between the hours of 8:30 a.m. and 4:30 p.m. eastern standard time (e.s.t.), Monday through Friday, excluding Federal holidays at the EPA Headquarters Library, Infoterra Room (room number 3334C) in the EPA West Building located at 1301 Constitution Ave., NW., Washington, DC. EPA visitors are required to show photographic identification and sign the EPA visitor log. After processing through the X-ray and magnetometer machines, visitors will be given an EPA/DC badge that must be visible at all times.

Informational updates will be provided via the EPA website at www.epa.gov/epahome/dockets.htm as they are available.

If you wish to obtain materials from a docket in the EPA/DC, please go first to www.regulations.gov. If the materials are listed in the docket index but the documents themselves are not available in www.regulations.gov, please call the applicable number from the list posted below:

• Office of Air and Radiation (OAR) Docket/Telephone number: (202) 566-1742.

• Office of Enforcement and Compliance Assurance (OECA) Docket/Telephone number: (202) 566-1752.

• Office of Environmental Information (OEI) Docket (includes Toxics Release Inventory (TRI) Docket)/Telephone number: (202) 566-1752.

• Office of Pollution Prevention and Toxics (OPPT) Docket/Telephone number: (202) 566-0280.

• Office of Research and Development (ORD) Docket/Telephone number: (202) 566-1752.

• Office of Solid Waste and Emergency Response (OSWER)

Resource Conservation and Recovery Act (RCRA) Docket/Telephone number: (202) 566-0270.

Superfund Docket/Telephone number: (202) 566-0276.

Underground Storage Tanks (UST) Docket/Telephone number: (202) 566-0270.

• Office of Water (OW) Docket/Telephone number: (202) 566-2426.

If you have any other questions concerning the temporary closing of the EPA/DC Public Reading Room, you may call (202) 566-1744 between the hours of 8:30 a.m. and 4:30 p.m. e.s.t.

List of Subjects

Environmental protection.

Dated: June 30, 2006.
Andrew T. Battin,
Acting Director, Office of Information Collection.

>

[FR Doc. 06-6025 Filed 6-30-06; 2:26 pm]

BILLING CODE 6560-50-S